DEPARTMENT OF TRANSPORTATION

Federal Aviation Administration

Advisory Circular: Systems and Equipment Guide for Certification of Part 23 Airplanes

AGENCY: Federal Aviation Administration (FAA), DOT.

ACTION: Notice of availability of proposed advisory circular (AC) and request for comments on proposed Advisory Circular (AC) 23-17A.

SUMMARY: This notice announces the availability of and request for comments on a proposed AC, Advisory Circular (AC) 23-17A, Systems and Equipment Guide for Certification of Part 23 Airplanes. Proposed Advisory Circular 23-17A provides information and guidance concerning acceptable means, but not the only means, of showing compliance with part 23 applicable to Subpart D from § 23.671 and Subpart F.

DATES: Comments must be received on or before May 28, 2002.

ADDRESSES: Send all comments on the proposed AC to: Federal Aviation Administration, Small Airplane Directorate, Aircraft Certification Service, Regulations & Policy (ACE-111), 901 Locust Street, Kansas City, MO 64106.

FOR FURTHER INFORMATION CONTACT: Les Taylor, Regulations & Policy (ACE-111), Small Airplane Directorate, Aircraft Certification Service, Federal Aviation Administration; telephone number (816) 329-4134.

SUPPLEMENTARY INFORMATION: Any person may obtain a copy of this proposed AC either by downloading it from the Web site at http://www.faa.gov/certification/aircraft/small_ airplane_directorate_ news_proposed.html or by contacting the person named above under FOR FURTHER INFORMATION CONTACT.

Comments Invited

We invite interested parties to submit comments on the proposed AC. Commenters must identify AC 23-17A and submit comments to the address specified above. The FAA will consider all communications received on or before the closing date for comments before issuing the final AC. By making prior arrangements with the individual listed under FOR FURTHER INFORMATION CONTACT, the proposed AC and comments received may be inspected in the Standards Office (ACE-110), Room 301, 901 Locust, Kansas City, Missouri, between the hours of 8:30 and 4:00 p.m. weekdays, except on Federal holidays.

Background

The Federal Aviation Administration reviewed the airworthiness standards of part 23 in 1968. Since then, the standards have been amended several times. Accordingly, the FAA is proposing and requesting comments on AC 23-17A, which will provide guidance for the original issue of part 23 and the various amendments up through Amendment 23-53. The amended version of the advisory circular covers policy available through June 30, 2001. Policy available after that date will be covered in future amendments to the advisory circular.

Issued in Kansas City, Missouri, on March 13, 2002.
Michael K. Dahl,
Acting Manager, Small Airplane Directorate, Aircraft Certification Service.

[FR Doc. 02-7487 Filed 3-27-02; 8:45 am]

BILLING CODE 4910-13-P